RAILROAD RETIREMENT BOARD

Sunshine Act Meetings

TIME AND DATE: 10:00 a.m., July 21, 2021.

PLACE: Members of the public wishing to attend the open portion of the meeting must submit a written request at least 24 hours prior to the meeting to receive dial-in information. All requests must be sent to SecretarytotheBoard@rrb.gov.

STATUS: The initial part of this meeting will be open to the public. The rest of the meeting will be closed to the public.

Portions Open to the Public

(1) Budget Briefing

(2) Enterprise Risk Management

(3) Legislative Briefing

(4) Status of Appeals

(5) Agency Operations

Portions Closed to the Public

(1) Personnel Matter

CONTACT PERSON FOR MORE INFORMATION: Stephanie Hillyard, Secretary to the Board, (312) 751-4920.

Authority: 5 U.S.C. 552b

Dated: July 2, 2021.
Stephanie Hillyard,
Secretary to the Board.

[FR Doc. 2021-14595 Filed 7-2-21; 4:15 pm]

BILLING CODE 7905-01-P